ENVIRONMENTAL PROTECTION AGENCY

[FRL-9948-23-Region 5]

EPA Great Lakes Advisory Board; Notice of Charter Renewal

AGENCY: Environmental Protection Agency (EPA).

ACTION: Notice of charter renewal.

Notice is hereby given that the Environmental Protection Agency (EPA) has determined that, in accordance with the provisions of the Federal Advisory Committee Act (FACA), 5 U.S.C. App. 2, the EPA Great Lakes Advisory Board (GLAB) is a necessary committee which is in the public interest. Accordingly, GLAB will be renewed for an additional two-year period. The purpose of the GLAB is to provide advice to the Administrator in her capacity as Chair of the Inter-Agency Task Force established per Executive Order 13340 (May 18, 2004), on matters related to Great Lakes restoration and protection. The GLAB's major objectives are to provide advice and recommendations on: Great Lakes protection and restoration policy; long term goals and objectives for Great Lakes protection and restoration; annual priorities to protect and restore the Great Lakes that may be used to help inform budget decisions; and issues addressed by the Great Lakes Interagency Task Force. Inquiries may be directed to Rita Cestaric, U.S. Environmental Protection Agency, 77 W. Jackson, Chicago, IL 60604, Email address: cestaric.rita@epa.gov, Telephone number: (312) 886-6815.

Dated: May 3, 2016.
Cameron Davis,
Senior Advisor.

[FR Doc. 2016-15003 Filed 6-23-16; 8:45 am]

BILLING CODE 6560-50-P